DEPARTMENT OF STATE

[Public Notice: 10612]

U.S. Department of State Cuba Internet Task Force; Notice of Open Meeting

The U.S. Department of State will conduct a public meeting of the Cuba Internet Task Force, Thursday, December 6, 2018, from 3:30 p.m. until 5:00 p.m. at the Harry S. Truman Building, 2201 C Street NW, Room 1107.

In accordance with the National Security Presidential Memorandum of June 16, 2017, on Strengthening the Policy of the United States Toward Cuba (NSPM-5), the Department of State created the Cuba internet Task Force and hosted its first public meeting on February 7, 2018. During the February meeting, the Task Force decided to create two subcommittees that would explore and develop recommendations on (1) the role of the media and the free, unregulated flow of information through independent media in Cuba, and (2) expanding internet access in Cuba. This meeting will be an opportunity to discuss the subcommittees' findings. The Cuba internet Task Force is composed of U.S. government and non-government representatives and its purpose is to examine technological challenges and opportunities for expanding internet access in Cuba.

As space is limited for this meeting, seats will be allocated on a first-come, first-served basis. Those wishing to attend must RSVP by emailing CubaITF@state.gov with your name, organization, and contact information no later than November 30, 2018. Requests for reasonable accommodation should be made prior to November 30, 2018.

Dale B. Eppler,
Acting Deputy Assistant Secretary, Department of State.

[FR Doc. 2018-25272 Filed 11-19-18; 8:45 am]

BILLING CODE 4710-29-P